DEPARTMENT OF THE INTERIOR

United States Geological Survey

[GX16EN05ESB0500]

Announcement of Advisory Committee on Climate Change and Natural Resource Science Meeting

AGENCY: U.S. Geological Survey, Department of the Interior.

ACTION: Notice of meeting.

SUMMARY: In accordance with the requirements of the Federal Advisory Committee Act, 5 U.S.C. App. 2, we announce that the Advisory Committee on Climate Change and Natural Resource Science will hold a meeting.

DATES: Meeting: The meeting will be held as follows: Tuesday, April 19, 2016, from 9:00 a.m. to 5:15 p.m.; and Wednesday, April 20, 2016 from 9:00 a.m. to 12:30 p.m. (All times Eastern Daylight Time).

ADDRESSES: Corporation for Enterprise Development, 1200 G Street NW., Suite 400—Roosevelt Room, Washington, DC 20005.

FOR FURTHER INFORMATION CONTACT: Mr. Robin O'Malley, Designated Federal Officer, Policy and Partnership Coordinator, National Climate Change and Wildlife Science Center, U.S. Geological Survey, 12201 Sunrise Valley Drive, Mail Stop 516, Reston, VA 20192, romalley@usgs.gov, (703) 648-4086.

SUPPLEMENTARY INFORMATION: Chartered in May 2013, the Advisory Committee on Climate Change and Natural Resource Science (ACCCNRS) advises the Secretary of the Interior on the establishment and operations of the U.S. Geological Survey (USGS) National Climate Change and Wildlife Science Center (NCCWSC) and the Department of the Interior (DOI) Climate Science Centers (CSCs). ACCCNRS members represent the Federal Government, state and local governments, including state membership entities, non-governmental organizations, including those whose primary mission is professional/scientific and those whose primary mission is conservation and related scientific and advocacy activities, American Indian tribes and other Native American entities, academia, landowners, businesses, and organizations representing landowners or businesses. Duties of the committee include: (A) Advising on the contents of a national strategy identifying key science priorities to advance the management of natural resources in the face of climate change; (B) advising on the nature, extent, and quality of relations with and engagement of key partners at the regional/CSC level; (C) advising on the nature and effectiveness of mechanisms to ensure the identification of key priorities from management partners and to effectively deliver scientific results in useful forms; (D) advising on mechanisms that may be employed by the NCCWSC to ensure high standards of scientific quality and integrity in its products, and to review and evaluate the performance of individual CSCs, in advance of opportunities to re-establish expiring agreements; and (E) coordinating as appropriate with the Landscape Conservation Cooperatives Council. More information about the ACCCNRS is available at https://nccwsc.usgs.gov/acccnrs.

Meeting Agenda: The objectives of this meeting are to: (1) Ensure committee familiarity with external input being provided to NCCWSC and the CSCs (including the ACCCNRS 2015 report to the Secretary of the Interior), and how the program is responding or will respond; (2) Engage the committee concerning strategic substantive decisions to be considered by NCCWSC and the CSCs; identify an appropriate role for ACCCNRS and elicit initial recommendations; (3) Establish the ACCCNRS focus areas for the next two to three years and outline an action plan for the committee to address those focus areas. The final agenda will be posted on https://nccwsc.usgs.gov/acccnrs prior to the meeting.

Public Input: All Committee meetings are open to the public. Interested members of the public may present, either orally or through written comments, information for the Committee to consider during the public meeting. The public will have approximately 15 minutes to make comment on both Tuesday, April 19, 2016, from 4:45 p.m. to 5:00 p.m. and Wednesday, April 20, 2016 from 11:45 p.m. to 12:00 p.m. (all times Eastern Daylight Time).

Individuals or groups requesting to make comment at the public Committee meeting will be limited to 2 minutes per speaker. The Committee will endeavor to provide adequate opportunity for all speakers, within available time limits. Speakers who wish to expand upon their oral statements, or those who had wished to speak, but could not be accommodated during the public comment period, are encouraged to submit their comments in written form to the Committee after the meeting.

Written comments should be submitted, prior to, during, or after the meeting, to Mr. Robin O'Malley, Designated Federal Officer, by U.S. Mail to: Mr. Robin O'Malley, Designated Federal Officer, U.S. Geological Survey, 12201 Sunrise Valley Drive, Mail Stop 516, Reston, VA 20192, or via email, at romalley@usgs.gov.

The meeting location is open to the public. When entering the Corporation for Enterprise Development building, attendees will need to show government issued photo identification. Space is limited, so all interested in attending should pre-register. Please submit your name, estimate time of arrival, email address and phone number to Holly Padgett via email at nccwsc@usgs.gov, or phone at (703) 648-4081, by close of business on April 12, 2016. Persons with disabilities requiring special services, such as an interpreter for the hearing impaired, should also contact Holly Padgett at least seven calendar days prior to the meeting. We will do our best to accommodate those who are unable to meet this deadline.

Robin O'Malley,
Designated Federal Officer.

[FR Doc. 2016-07035 Filed 3-28-16; 8:45 am]

BILLING CODE 4311-AM-P